Title 3—

The President

Memorandum of November 12, 2019

Delegation of Removal Authority Over the Federal Service Impasses Panel

Memorandum for the Federal Labor Relations Authority

By the authority vested in me as President by the Constitution and the laws of the United States of America, including section 301 of title 3, United States Code, it is hereby ordered as follows:

Section 1. Delegation of Removal Authority. (a) The Federal Labor Relations Authority (FLRA) is delegated the authority under 5 U.S.C. 7119(c)(3) to remove the Chairman and any other member of the Federal Service Impasses Panel (FSIP) appointed by the President under 5 U.S.C. 7119(c)(2).

(b) In exercising the authority delegated by this section, the FLRA shall consider the extent to which decisions of members of the FSIP are consistent with the requirements of Chapter 71 of title 5, United States Code, with particular attention to whether the decisions are consistent with the requirement of an effective and efficient Government, as those terms are used in 5 U.S.C. 7101(b), in addition to any other factors that the FLRA may consider appropriate.

(c) Within 10 days of exercising the authority delegated by this section, the FLRA shall submit a report to the President, through the Assistant to the President for Domestic Policy, explaining the reasons for its action, with particular emphasis on explaining how such action promotes an effective and efficient Government under 5 U.S.C. 7101(b).

(d) The authority delegated by this section may not be redelegated.

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The FLRA is hereby authorized and directed to publish this memorandum in the Federal Register.

THE WHITE HOUSE,

Washington, November 12, 2019

[FR Doc. 2019-25118

Filed 11-15-19; 11:15 am]

Billing code 6727-01-P